DEPARTMENT OF HEALTH AND HUMAN SERVICES

Food and Drug Administration

[Docket No. FDA-2011-N-0010]

Cooperative Agreement With the World Health Organization Department of Food Safety and Zoonoses in Support of Strategies That Address Food Safety Problems That Align Domestically and Globally (U01); Correction

AGENCY: Food and Drug Administration, HHS.

ACTION: Notice; correction.

SUMMARY: The Food and Drug Administration (FDA) is correcting a notice that appeared in the Federal Register of June 28, 2011 (76 FR 37817). The document announced the availability of funds for the support of a sole source cooperative agreement with the World Health Organization. The document published stating that the total funding available was up to $260,000 (total costs including indirect costs) in fiscal year 2011 in support of this project. This document corrects that error.

FOR FURTHER INFORMATION AND ADDITIONAL REQUIREMENTS CONTACT:

For Programmatic Questions and Concerns Contact

Katherine Bond, Office of International Programs, Food and Drug Administration, 10903 New Hampshire Ave., Silver Spring, MD 20993-0002, 301-796-8318, e-mail: Katherine.bond@fda.hhs.gov.

For Financial and Administrative Questions and Concerns Contact

Gladys Melendez, Office of Acquisition and Grant Services (HFA-500), Food and Drug Administration, 5630 Fishers Lane, rm. 1078, Rockville, MD 20857, 301-827-7175, e-mail: gladys.Melendez-bohler@fda.hhs.gov.

SUPPLEMENTARY INFORMATION: In FR Doc. 2011-16120, appearing on page 37817, in the Federal Register of Tuesday, June 28, 2011, the following correction is made:

1. On page 37819, in third column, section A. Award Amount is corrected to read as follows:

The total funding available is up to $360,000 (total costs including indirect costs) in fiscal year 2011 in support of this project. One award will be made. Funding will be provided for one year, with the possibility of up to four additional years of support, contingent upon successful performance and available funding.

Dated: July 21, 2011.
David Dorsey,
Acting Deputy Commissioner for Policy, Planning and Budget.

[FR Doc. 2011-18881 Filed 7-25-11; 8:45 am]

BILLING CODE 4160-01-P